FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—06/06/2006
20061120 | Pardus European Special Opportunities master Fund L.P | Visteon Corp | Visteon Corp.
20061139 | Ray Investment S.a.r.l | Morris B. Cartin | Capitol Light and Supply Company
20061150 | American Financial Group, Inc | Ceres Group, Inc | Ceres Group, Inc.
20061155 | Lindsay Goldberg & Bessemer L.P | FSB Holdings, Inc | FSB Hildings, Inc.
20061162 | Golden Oval Eggs, LLC | Land O'Lakes, Inc | Culter at Abbeville, LLC, Hi Point Industries, LLC, L&W Egg Products, Inc., MoArk Egg Corporation, MoArk, LLC, Norco Ranch, Inc.
20061166 | ST Holdings, Inc | Nautic Partners V, L.P | Contec, LLC
20061175 | Liberty Media Corporation | Howard Jonas | IDT Media, LLC, c/o IDT Corporation
20061181 | MPM Equity LLC | KKR European Fund, Limited Partnership | MPM Luxembourg 2 (c) S.a.r.l.
Transactions Granted Early Termination—06/07/2006
20060469 | General Dynamics Corporation | Anteon International Corporation | Anteon International Corporation
20061063 | Alcatel | Lucent Technologies Inc | Lucent Technologies Inc.
20061086 | The Day & Zimmerman Group, Inc | Dennis McLaughlin | Atlantic Enterprises I, LLC, Atlantic Government Services, LLC, Atlantic Services, Inc., Chesapeake Civil Services, Inc.
20061136 | TPG Partners V, L.P | Smurfit-Stone Container Corporation | Smurfit-Stone Container Corporation
20061173 | Shidax Corporation | Fortunato N. Valenti | Resturant Hospitality, LLC
20061184 | Plains Exploration & Production Company | Stone Energy Corporation | Stone Energy Corporation
20061189 | J. Joe Ricketts | TD Ameritrade Holding Corporation | TD Ameritrade Holding Corporation
Transactions Granted Early Termination—06/08/2006
20061073 | America Telecom, S.A. de C.V | Verizon Communications Inc | Telecommunicaciones de Puerto Rico, Inc.
20061147 | Caterpillar Inc | JPMorgan Chase & Co | Progress Rail Services, Inc.
20061167 | MxEnergy Holdings Inc | Royal Dutch Shell plc | Shell Energy Services Company, L.L.C.
20061177 | OCM Opportunities Fund V, L.P | Richard S. Wiley | Pegasus Aviation Finance Company
20061182 | Federal Services Acquisition Corporation | Delmar J. Lewis | Advanced Technology Systems, Inc.
20061185 | Mr. Sidney Kitson | Babcock Florida Company | Babcock Florida Company
Transactions Granted Early Termination—06/09/2006
20061174 | First Avenue Networks, Inc | FiberTower Corporation | FiberTower Corporation
20061178 | OCM Principal Opportunities Fund III, L.P | Richard S. Wiley | Pegasus Aviation Finance Company
20061199 | Francois Pinault | The Sportsman's Guide, Inc | The Sportsman's Guide, Inc.
20061207 | Harron Sharing Partners, L.P | Eastern Connecticut Cable Television, Inc | Eastern Connecticut Cable Television, Inc.
20061211 | Bradford L. Honigfeld | Main Street Restaurant Group, Inc | Main Street Restaurant Group, Inc.
Transactions Granted Early Termination—06/12/2006
20061102 | Aveta Inc | BER Health Partners Group, Inc | BER Health Partners Group, Inc.
20061127 | D. Stephen Sorensen and Shannon P. Sorensen | RemedyTemp, Inc | RemedyTemp, Inc.
20061135 | Wienerberger AG | F. George Robinson, Jr | Robinson Brick Company
20061168 | Interline Brands, Inc | Golder, Thoma, Cressey, Rauner Fund V, L.P | AmSan, LLC
20061205 | FR X Onshore, L.P | Noble Energy, Inc | Noble Energy, Inc.
20061208 | The Guardian Life Insurance Company of America | RS Investment Management Co. LLC | RS Investment Management Co. LLC
Transactions Granted Early Termination—06/13/2006
20061151 | Petroleo Brasileiro S.A.—Petrobras | Albert Frere | Pasadena Refining System, Inc.
20061176 | Philadelphia Media Holdings, LLC | The McClatchy Company | Circom Corporation, Consumer and Community Publishing, Inc., Job Fair Ventures, Inc., KR Video, Inc., Marketplace Advertising, Inc., Philadelphia Newspapers, Inc., Philadelphia Online, Inc., Phillytech, Inc., ProMedia Publishing Company
20061219 | Charys Holding Company, Inc | Troy Crochet | Crochet & Borel Services, Inc., d/b/a/ C & B Services, Inc.
Transactions Granted Early Termination—06/14/2006
20061126 | Teck Cominco Limited | Inco Limited | Inco Limited
20061194 | Deseret Management Corporation | Jeffrey H. Smulyan | Emmis Radio License, LLC, Emmis Radio, LLC
20061214 | NextWave Wireless LLC | WCS Wireless, Inc | WCS Wireless, Inc.
20061220 | GGC Investments II (BVI), L.P | SSA Global Technologies, Inc | SSA Global Technologies, Inc.
20061224 | Wilton Re Holdings Limited | The Charles A. Sammons 1987 Charitable Remainder Trust #2 | North American Company for Life and Health Insurance of NY
Transactions Granted Early Termination—06/15/2006
20060792 | Dr. August Oetker KG | Mr. Sergey Generalov | FESCO Agencies N.A., Inc., FESCO Lines Australia Pty Limited, FESCO Lines Hong Kong Limited, FESCO Lines New Zealand Limited, FESCO Ocean Management Limited, Pacific Conlease Company Limited, Premiere Cliff Shipping Company
20061164 | U.S. Concrete, Inc | Atlas Concrete, Inc | Alberta Investments, Inc., Alliance Haulers, Inc.
Transactions Granted Early Termination—06/16/2006
20061158 | Omron Corporation | Anthony R. Lazzara | Scientific Technologies Incorporated, Scientific Technology Incorporated
20061170 | Schmolz + Bickenbach KG | Arcelor SA | Ugitech SA
20061190 | AmSafe Partners, Inc | Goodrich Corporation | AMI Industries, Inc., Walbar Inc.
20061191 | Kelso Investment Associates VII, L.P | Electrical Wholesalers, Inc | Electrical Wholesalers, Inc.
20061193 | ITOCHU Corporation | Komatsu Ltd. | FMC Rents, Inc., Furnival Machinery Company
20061200 | Apollo Investment Fund VI, L.P | Carlyle Partners III, L.P | RBS Global Inc.
20061202 | Johannes Karcher | Heritage Fund II, L.P | Castle Rock Industries, Inc.
20061203 | Suzanne Zimmermann von Siefart | Heritage Fund II, L.P | Castle Rock Industries, Inc.
20061227 | Thoma Cressey Fund VIII, L.P | Prospect Partners, L.P | Remuda Ranch Holding Company
20061230 | Odyssey Investment Partners Fund III, LP | Eventide Risk Management LLC | Eventide Risk Management LLC
20061231 | Walgreen Co | Alan B. Levin | Happy Harry's Discount Drug Stores, Inc.
20061233 | Century Park Capital Partners II, L.P | John Ellison, Jr | Specialty Manufacturing Company
20061234 | WLR Recovery Fund III, L.P | Montpelier Re Holdings Ltd | Montpelier Re Holdings Ltd.
20061236 | SkyTerra Communications, Inc | Mobile Satellite Ventures, L.P | Mobile Satellite Ventures, L.P.
20061240 | Welsh, Carson, Anderson & Stowe X, L.P | Mobile Services Group, Inc | Mobile Services Group, Inc.
20061242 | Carl C. Icahn | Vector Group Ltd | Vector Group Ltd.
20061244 | Leeds Equity Partners IV, L.P | Education Management Corporation | Education Management Corporation
20061257 | SPI Petroleum LLC | Pecos, Inc | Pecos, Inc.
20061258 | Genstar Capital Partners IV, LP | Fort Dearborn Company | Fort Dearborn Company
20061259 | Tom T. Gores | Almendral S.A | Americatel Corporation
Transactions Granted Early Termination—06/19/2006
20061238 | McCormick & Company, Incorporated | Seth Jacobson | Epicurean International, Inc., Simply Asia, LLC
Transactions Granted Early Termination—06/21/2006
20061159 | Kelso Investments Associates VII, L.P | Bradley J. Hausfeld | Auto Disposal Systems Inc.
20061160 | Kelso Investments Associates VII, L.P | Thomas L. Hausfeld | Auto Disposal Systems Inc.
20061179 | ASSA ABLOY AB | Fargo Electronics, Inc | Fargo Electronics, Inc.
20061201 | Romesh Wadhwani | Hummingbird Ltd | Hummingbird Ltd.
20061213 | Dr. med.Lutz Helmig | Heitkamp-Deilmann-Haniel GmbH | Frontier-Kemper Constructors Inc.
20061216 | Enterprise Products Partners L.P | Rodney Lewis | Cerrito Gas Marketing Ltd., Cerrito Gathering Company, Ltd., Encinal Gathering, Ltd.
20061218 | Clear Channel Communications, Inc | Deborah and Mark Lieberman | In-ter-space Services, Inc.
20061243 | Castle Harlan Partners IV, L.P | Bravo Development, Inc | Bravo Development, Inc.
20061245 | Bruckmann, Rosser, Sherrill & Co. II, L.P | Bravo Development, Inc | Bravo Development, Inc.
20061250 | The Nutting Company, Inc | Seven Springs Farm, Inc | Seven Springs Farm, Inc.
20061253 | Transfield Services Limited | Sterling Investment Partners, L.P | USM Holdings Corp.
20061255 | KKR Millennium Fund (Overseas), Limited Partnership | Flextronics International Ltd | Avnisoft Corporation, c/o Flextronics International Ltd. Emuzed, Inc., Flextronics Software Systems Limited, frog design, Inc., One Marina Boulevard, Saras Software Systems Ltd.
Transactions Granted Early Termination—06/22/2006
20061210 | Harbinger Capital Partners Offshore Fund I, Ltd | Haynes International, Inc | Haynes International, Inc.
20061235 | Flakeboard Company Limited | Weyerhaeuser Company | Weyerhaeuser Company
20061248 | William J. Yung III | Casino Queen, Inc | Casino Queen, Inc.
20061251 | Herbst Gaming, Inc | The Sands Regent | The Sands Regent
Transactions Granted Early Termination—06/23/2006
20061225 | Psychiatric Solutions, Inc | Ronald I. Dozoretz, MD | Alternative Behavioral Services, Inc.
20061246 | New York Life Insurance Company | Robert H. Lyon | Institutional Capital Corporation
20061260 | Nutting 1997 Trust | The McClatchy Company | Fort Wayne Newspapers, Inc., New Publishing & Journal Gazette Co., News Publishing Company
20061261 | Sun Capital Partners IV, LP | Marsh Supermarkets, Inc | Marsh Supermarkets, Inc.
20061263 | Gannett Co., Inc | Tribune Company | WATL, LLC
20061266 | Nancy Jane Black Marcil | The McClatchy Company | Duluth/Superior Newspapers, LLC
20061267 | Nancy Jane Black Marcil | The McClatchy Company | Grand Forks Herald, Incorporated
20061268 | Richard L. Scott | ThyssenKrupp AG | ThyssenKrupp Budd Company
20061271 | SLM Corporation | Upromise, Inc | Upromise, Inc.
20061273 | NBD Holding Corp | BondDesk Group LLC | BondDesk Group LLC
20061275 | Fuji Photo Film Co., Ltd | Markem Corporation | Dimatix, Inc.
20061278 | Francisco Partners, L.P | Mr. Erez Goren | BlueCube Software, Inc.
20061279 | Welsh, Carson, Anderson & Stowe X, L.P | Turbo Logistics, Inc | Turbo Logistics, Inc.
20061292 | Bank of America Corporation | H.I.G. Recycling, Inc | TFI Holdings, Inc.
20061293 | Battery Ventures VI L.P | Onyx Software Corporation | Onyx Software Corporation
20061310 | JLL Partners Fund V, L.P | Ace Cash Express, Inc. | Ace Cash Express, Inc.
Transactions Granted Early Termination—06/26/2006
20061196 | University of Maryland Medical System Corporation | Shore Health System, Inc | Shore Health System, Inc.
20061206 | RIC Coinvestment Fund LP | Brookdale Senior Living Inc | Brookdale Senior Living Inc.
Transactions Granted Early Termination—06/27/2006
20060863 | The McClatchy Company | Knight-Ridder, Inc | Knight-Ridder, Inc.
20061217 | Cedar Fair, L.P | Mr. Sumner M. Redstone | Paramount Parks Inc.
Transactions Granted Early Termination—06/28/2006
20061277 | Koninklijke Philips Electronics N.V | Avent Holdings Limited | Avent Holdings Limited
20061294 | Macquarie Capital Alliance Trust ARSN 112 638 212 | Wind Point Partners V, L.P | ASI Holding Corp.
20061298 | Alion Science and Technology Corporation | General Dynamics Corporation | Anteon Corporation
20061300 | Ares Corporate Opportunities Fund, II L.P | White Energy Partners, LLC | White Energy Partners, LLC
Transactions Granted Early Termination—06/29/2006
20061212 | Blue Cross and Blue Shield of Florida Inc | Health Care Service Corporation | THIN, Inc.
20061239 | ADVA AG Optical Networking | Movaz Networks, Inc | Movaz Networks, Inc.
Transactions Granted Early Termination—06/26/2006
20061308 | Taiyo Nippon Sanso Corporation | John Breslow | Linweld, Inc., Linweld Manufacturing, Inc.

FOR FURTHER INFORMATION CONTACT: Sandra M. Peay, Contact Representative or Renee Hallman, Contact Representative, Federal Trade Commission, Premerger Notification Office, Bureau of Competition, Room H-303, Washington, DC 20580, (202) 326-3100.

By direction of the Commission.
Donald S. Clark,
Secretary.

[FR Doc. 06-6135 Filed 7-11-06; 8:45 am]

BILLING CODE 6750-01-M